DEPARTMENT OF HEALTH AND HUMAN SERVICES

National Institutes of Health

National Institute of Neurological Disorders and Stroke; Amended Notice of Meeting

Notice is hereby given of a change in the meeting of the National Institute of Neurological Disorders and Stroke Special Emphasis Panel, March 19, 2020, 8:00 a.m. to March 20, 2020, 5:00 p.m., Canopy by Hilton, 940 Rose Avenue, North Bethesda, MD 20852 which was published in the Federal Register on February 20, 2020, 85FR9789.

This meeting notice is to change the meeting format from in-person to virtual. The meeting is closed to the public.

Dated: March 13, 2020.
Miguelina Perez,
Program Analyst, Office of Federal Advisory Committee Policy.

[FR Doc. 2020-05634 Filed 3-17-20; 8:45 am]

BILLING CODE 4140-01-P